SMALL BUSINESS ADMINISTRATION

[Declaration of Disaster #P047]

State of Kansas; Amendment #4

In accordance with a notice received from the Department of Homeland Security—Federal Emergency Management Agency, effective September 1, 2004, the above numbered Public Assistance declaration is hereby amended to include Barton, Decatur, Marion, Morris, Ness, Pawnee, Sheridan, Thomas, Wabaunsee and Wallace Counties in the State of Kansas as disaster areas due to damages caused by severe storms, flooding, and tornadoes occurring on June 12, 2004, and continuing through July 25, 2004.

All other information remains the same, i.e., the deadline for filing applications for physical damage is October 4, 2004.

(Catalog of Federal Domestic Assistance Program Nos. 59008).

Dated: September 8, 2004.
Herbert L. Mitchell,
Associate Administrator for Disaster Assistance.

[FR Doc. 04-20820 Filed 9-15-04; 8:45 am]

BILLING CODE 8025-01-P